DEPARTMENT OF COMMERCE

International Trade Administration

[A-580-809]

Certain Circular Welded Non-Alloy Steel Pipe from the Republic of Korea; Initiation of Changed Circumstances Antidumping Duty Administrative Review

AGENCY: Import Administration, International Trade Administration, Department of Commerce.

ACTION: Notice of Initiation of Changed Circumstances Antidumping Duty Administrative Review.

SUMMARY: In response to a letter from Husteel Co., Ltd. notifying the Department of Commerce that its corporate name has changed from Shinho Steel Co., Ltd., the Department of Commerce is initiating a changed circumstances administrative review of the antidumping duty order on certain circular welded non-alloy steel pipe from the Republic of Korea (see Notice of Antidumping Orders: Certain Circular Welded Non-Alloy Steel Pipe from Brazil, the Republic of Korea (“Korea”), Mexico, and Venezuela and Amendment to Final Determination of Sales at Less Than Fair Value: Certain Welded Non-Alloy Steel Pipe from Korea (57 FR 49453, November 2, 1992)).

EFFECTIVE DATE: June 18, 2002.

FOR FURTHER INFORMATION CONTACT: Suresh Maniam or Scott Holland, Import Administration, International Trade Administration, U.S. Department of Commerce, 14th Street and Constitution Avenue, NW, Washington, DC 20230; telephone (202) 482-0176 and (202) 482-1279, respectively.

SUPPLEMENTARY INFORMATION:

Applicable Statute and Regulations

Unless otherwise indicated, all citations to the Tariff Act of 1930, as amended (the “Act”), are references to the provisions effective January 1, 1995, the effective date of the amendments made to the Act by the Uruguay Round Agreements Act. In addition, unless otherwise indicated, all citations to the Department of Commerce's (“Department”) regulations are to 19 CFR Part 351 (April 2002).

Scope of the Review

The merchandise subject to this review is circular welded non-alloy steel pipe and tube, of circular cross-section, not more than 406.4mm (16 inches) in outside diameter, regardless of wall thickness, surface finish (black, galvanized, or painted), or end finish (plain end, beveled end, threaded, or threaded and coupled). These pipes and tubes are generally known as standard pipes and tubes and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order.

All carbon-steel pipes and tubes within the physical description outlined above are included within the scope of this review except line pipe, oil-country tubular goods, boiler tubing, mechanical tubing, pipe and tube hollows for redraws, finished scaffolding, and finished conduit. In accordance with the Department's Final Negative Determination of Scope Inquiry on Certain Circular Welded Non-Alloy Steel Pipe and Tube from Brazil, the Republic of Korea, Mexico, and Venezuela (61 FR 11608, March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, the written description of the scope of this proceeding is dispositive.

Initiation of Changed Circumstances Review

On May 2, 2002, Husteel Co., Ltd. (“Husteel”), notified the Department that, as of April 1, 2002, its corporate name changed from Shinho Steel Co., Ltd. (“Shinho” is a company subject to the antidumping duty order on certain circular welded non-alloy steel pipe from Korea), and requested that the Department initiate a changed circumstances review to confirm that Husteel is the successor-in-interest to Shinho. Husteel also requested that the Department issue the preliminary results of the changed circumstances review in conjunction with the notice of initiation, in accordance with 19 CFR 351.221(c)(3)(ii).

Husteel provided documentation to support the name change, consisting of the minutes of the shareholders' meeting where the name change was approved, comparison chart of the articles of incorporation, court certification of the name change, and a new business registration certificate issued by tax authorities. Husteel has stated that the company's owners, management structure, production facilities, supplier relationships and customer base remain unchanged, but has not provided documentation supporting these statements.

Pursuant to section 751 (b)(1) of the Act, the Department will conduct a changed circumstances review upon receipt of information, or a request from an interested party, concerning an antidumping duty order which shows changed circumstances sufficient to warrant a review of the order. The information submitted by Husteel shows changed circumstances sufficient to warrant a review. See 19 CFR 351.216(c).

Concerning Husteel's request that the Department issue the preliminary results of the changed circumstances review in conjunction with the notice of initiation, Husteel has not provided sufficient evidence to support a preliminary finding. In making successor-in-interest determinations, the Department examines several factors including, but not limited to, changes in: (1) management; (2) production facilities; (3) supplier relationships; and (4) customer base. See e.g., Brass Sheet and Strip from Canada; Final Results of Antidumping Duty Administrative Review, 57 FR 20460, 20461 (May 13, 1992). While no single factor, or combination of factors, will necessarily be dispositive, the Department will generally consider the new company to be the successor to its predecessor company if the resulting operations are essentially the same as the predecessor company. See e.g., id. and Industrial Phosphoric Acid from Israel; Final Results of Changed Circumstances Review, 59 FR 6944, 6945 (February 14, 1994). Thus, if the evidence demonstrates that, with respect to the production and sale of the subject merchandise, the new company operates as the same business entity as its predecessor, the Department will treat the new company as the successor-in-interest to the predecessor. In this instance, while Husteel has stated for the record that the company's owners, management structure, production facilities, supplier relationships and customer base remain unchanged, it has not provided evidence supporting these statements.

Therefore, in accordance with section 751(b)(1) of the Act and sections 19 CFR 351.216(b) and 351.221(b)(1), we are initiating a changed circumstances administrative review to determine whether entries naming Husteel as manufacturer or exporter should receive the cash deposit rate currently applied to Shinho.

The Department will publish in the Federal Register a notice of preliminary results of changed circumstances antidumping duty administrative review, in accordance with 19 CFR 351.221(b)(4) and 351.221(c)(3)(i), which will set forth the Department's preliminary factual and legal conclusions. The Department will issue its final results of review in accordance with the time limits set forth in 19 CFR 351.216(e).

This notice is published in accordance with section 751(b)(1) of the Act.

Dated: June 12, 2002
Richard W. Moreland,
Deputy Assistant Secretary for Import Administration, Group 1.

[FR Doc. 02-15345 Filed 6-17-02; 8:45 am]

BILLING CODE 3510-DS-S